DEPARTMENT OF THE INTERIOR

National Park Service

[NPS-WASO-NAGPRA-NPS0033500; PPWOCRADN0-PCU00RP14.R50000]

Notice of Inventory Completion: University of Southern Mississippi, Hattiesburg, MS

AGENCY: National Park Service, Interior.

ACTION: Notice.

SUMMARY: The University of Southern Mississippi has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Southern Mississippi. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Southern Mississippi at the address in this notice by April 11, 2022.

FOR FURTHER INFORMATION CONTACT: Marie Elaine Danforth, Professor of Anthropology, School of Social Science and Global Studies, University of Southern Mississippi, 118 College Drive #5108, Hattiesburg, MS 39406-0001, telephone (601) 266-5629, email m.danforth@usm.edu.

SUPPLEMENTARY INFORMATION: Notice is here given in accordance with the Native American Graves Protection and Repatriation Act (NAGPRA), 25 U.S.C. 3003, of the completion of an inventory of human remains under the control of the University of Southern Mississippi, Hattiesburg, MS. The human remains are presumed to have been removed from eastern Texas.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Southern Mississippi professional staff in consultation with representatives of the Caddo Nation of Oklahoma.

History and Description of the Remains

Sometime prior to 1994, human remains representing, at minimum, one individual were removed from an unknown site in eastern Texas. The human remains were brought to the Mississippi Petrified Forest Museum in Madison County, MS, where they were on display for an unknown number of years. In 1994, the human remains were transferred to the University of Southern Mississippi. The nearly complete skeleton belongs to a young adult female, and the human remains most likely predate European contact. No known individual was identified. No associated funerary objects are present.

The human remains were determined to be Native American based on facial and dental characteristics. No documentation for these human remains is known to exist. Instead, their provenience and date are based upon oral information provided by a longtime administrator at the museum. They are most likely culturally affiliated with the Caddo Nation of Oklahoma based on that Indian Tribe's traditional association with eastern Texas. This association is supported by information provided by a representative of the Caddo Nation of Oklahoma during consultation.

At an unknown date, human remains representing, at minimum, two individuals were removed from sites in Oklahoma and eastern Texas. The human remains belong to two adults of indeterminate sex. No known individuals were identified. No associated funerary objects are present.

No information concerning how these human remains entered the university's archeological holdings is known to exist. The human remains were found in a box labeled “Bentley Collection from Texas.” Notations on the bags in the box read “Fannin City, Texas” and “LeFlore, OK; Great Temple Mound.” The human remains of these two individuals have been identified as Native American based on the bag labels, especially the one referencing the Great Temple Mound, a part of Spiro Mounds in Oklahoma dating to A.D. 850-1450. There is no Fannin City in Texas, but there is a Fannin County in the far northeastern part of the state on the Oklahoma border. Based on the well-accepted cultural association of Spiro Mounds with the Caddo Nation of Oklahoma, as well as that Indian Tribe's traditional ties with eastern Texas, these human remains most likely are culturally affiliated with the Caddo Nation of Oklahoma. This association is supported by information provided by a representative of the Caddo Nation of Oklahoma during consultation.

Determinations Made by the University of Southern Mississippi

Officials of the University of Southern Mississippi have determined that:

• Pursuant to 25 U.S.C. 3001(9), the human remains described in this notice represent the physical remains of three individuals of Native American ancestry.

• Pursuant to 25 U.S.C. 3001(2), there is a relationship of shared group identity that can be reasonably traced between the Native American human remains and the Caddo Nation of Oklahoma.

Additional Requestors and Disposition

Lineal descendants or representatives of any Indian Tribe or Native Hawaiian organization not identified in this notice that wish to request transfer of control of these human remains should submit a written request with information in support of the request to Marie Elaine Danforth, Professor of Anthropology, School of Social Science and Global Studies, University of Southern Mississippi, 118 College Drive #5108, Hattiesburg, MS 39406-0001, telephone (601) 266-5629, email m.danforth@usm.edu, by April 11, 2022. After that date, if no additional requestors have come forward, transfer of control of the human remains to the Caddo Nation of Oklahoma may proceed.

The University of Southern Mississippi is responsible for notifying the Caddo Nation of Oklahoma that this notice has been published.

Dated: March 2, 2022.
Melanie O'Brien,
Manager, National NAGPRA Program.

[FR Doc. 2022-05063 Filed 3-9-22; 8:45 am]

BILLING CODE 4312-52-P